NUCLEAR REGULATORY COMMISSION

[Docket No. 72-26]

Notice of Availability of Environmental Assessment and Final Finding of No Significant Impact for an Exemption to the Requirements of 10 CFR 72.70(c)(6) for the Diablo Canyon Independent Spent Fuel Storage Installation

AGENCY: Nuclear Regulatory Commission.

ACTION: Issuance of Environmental Assessment and Final Finding of No Significant Impact for Exemption.

FOR FURTHER INFORMATION CONTACT: James R. Hall, Senior Project Manager, Licensing Branch, Division of Spent Fuel Storage and Transportation, Mail Stop EBB-3D-02M, U.S. Nuclear Regulatory Commission, Washington, DC 20555-0001. Telephone: (301) 492-3319; e-mail: jrh@nrc.gov.

SUPPLEMENTARY INFORMATION:

I. Introduction

The U.S. Nuclear Regulatory Commission (NRC) is considering issuance of an exemption, pursuant to 10 CFR 72.7, from the provisions of 10 CFR 72.70 to the Pacific Gas and Electric Company (PG&E, or the licensee). This regulation requires that each specific licensee under 10 CFR part 72 shall update periodically the final safety analysis report (FSAR) to assure that the information included in the report contains the latest information developed. 10 CFR 72.70(c)(6) requires that updates shall be filed every 24 months from the date of issuance of the license.

The NRC granted a license for the Diablo Canyon Independent Spent Fuel Storage Installation (ISFSI), to be located on the site of the Diablo Canyon Power Plant, to PG&E on March 22, 2004. The requested exemption would allow PG&E to submit an updated FSAR for the Diablo Canyon ISFSI no later than July 1, 2008, or no later than 30 days prior to the commencement of onsite dry-run testing activities, whichever occurs first. PG&E submitted the exemption request on January 22, 2008.

II. Environmental Assessment

Identification of Proposed Action

The licensee requested an exemption from the requirement in 10 CFR 72.70(c)(6), which states that each licensee shall submit an updated FSAR to the NRC every 24 months from the date of issuance of the license. The requested exemption would allow the licensee to delay the submittal of the updated FSAR for the Diablo Canyon ISFSI by up to approximately 100 days (no later than July 1, 2008, or 30 days prior to the commencement of onsite dry-run testing activities, whichever comes first).

The proposed action before the Commission is whether to grant this exemption pursuant to 10 CFR 72.7.

Need for the Proposed Action

The NRC granted a license to construct and operate the Diablo Canyon ISFSI to PG&E on March 22, 2004. PG&E has constructed the facility and plans to commence operation in the summer of 2008. The exemption would allow the licensee additional time to submit an updated FSAR beyond March 22, 2008, which is 24 months from the date of the last required update. In its justification for the exemption request, PG&E stated that it is currently completing certain design changes to the facility that will impact the information in the FSAR, and that these changes will be reflected in the FSAR update, after the required evaluations are finalized. Further, if the exemption is granted, the extra time provided will be sufficient to ensure that the updated FSAR will contain current and accurate information related to the ISFSI design, analysis and operation, in time for planned NRC inspection activities. In order to ensure that the information in the updated FSAR contains the latest information developed and is of the greatest value to its users, the licensee has requested the subject exemption.

Environmental Impacts of the Proposed Action

The NRC staff previously evaluated the environmental impacts resulting from the construction, operation and decommissioning of the Diablo Canyon ISFSI, and determined that such impacts would be acceptably small. The staff's conclusions are documented in the “Environmental Assessment and Finding of No Significant Impact Related to the Construction and Operation of the Diablo Canyon Independent Spent Fuel Storage Installation,” issued on October 24, 2003 (October 24, 2003 EA); and in the “Supplement to the Environmental Assessment and Final Finding of No Significant Impact Related to the Construction and Operation of the Diablo Canyon Independent Spent Fuel Storage Installation,” dated August 30, 2007 (Supplement). The proposed action under consideration would not change the staff's previous conclusions in the October 24, 2003 EA and the Supplement regarding environmental impacts because the proposed exemption is an administrative action that will not affect the physical design or operation of the Diablo Canyon ISFSI. Therefore, there are no radiological or non-radiological impacts from a one-time delay in submitting the updated FSAR, and the staff finds that the proposed exemption will not have any significant environmental impact.

Environmental Impacts of the Alternative to the Proposed Action

As an alternative to the proposed action, the staff considered denial of the proposed action (i.e., the “no-action” alternative). Approval or denial of the exemption request would result in no change in the environmental impacts described in the October 24, 2003 EA and its Supplement. Therefore, the environmental impacts of the proposed action and the alternative action are similar.

Conclusion

The staff has reviewed the exemption request submitted by PG&E and has determined that allowing the licensee to delay the submittal of the updated Final Safety Analysis Report for the Diablo Canyon ISFSI by no more than approximately 100 days beyond the date required by 10 CFR 72.70(c)(6) is an administrative change, and would have no significant effect on the human environment.

Agencies and Persons Consulted

On March 10, 2008, Ms. Barbara Byron of the California Energy Commission was contacted regarding the environmental assessment for the proposed exemption and Ms. Byron had no comments. The NRC staff has determined that the proposed action is solely of a procedural nature and will not affect listed species or critical habitat. Therefore, no consultation is required under Section 7 of the Endangered Species Act. The NRC staff has also determined that the proposed action is not the type of activity that has the potential to cause effects on historic properties, assuming such historic properties were present at the Diablo Canyon ISFSI. Therefore, no consultation is required under Section 106 of the National Historic Preservation Act.

III. Finding of No Significant Impact

The environmental impacts of the proposed action have been reviewed in accordance with the requirements set forth in 10 CFR part 51. Based upon the foregoing environmental assessment, the NRC finds that the proposed action of granting the exemption from 10 CFR 72.70(c)(6), so that PG&E may delay the submittal of the updated FSAR for the Diablo Canyon ISFSI, will not have a significant effect on the quality of the human environment. Accordingly, pursuant to 10 CFR 50.31 and 51.119(a), the NRC has determined that a Final Finding of No Significant Impact is appropriate, and that an environmental impact statement for the proposed exemption is not necessary.

IV. Further Information

PG&E's application for exemption is available electronically at the NRC's Electronic Reading Room at http://www.nrc.gov/reading-rm/adams.html. From this site, you can access the NRC's Agencywide Document Access and Management System (ADAMS), which provides text and image files of NRC's public documents. The ADAMS Accession number for the exemption request is ML080290634.

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O-1F21, One White Flint North, 11555 Rockville Pike, Rockville, MD 20852. The PDR reproduction contractor will copy documents for a fee.

Dated at Rockville, Maryland, this 14th day of March, 2008.
For the Nuclear Regulatory Commission.
James R. Hall,
Senior Project Manager, Licensing Branch, Division of Spent Fuel Storage and Transportation, Office of Nuclear Material Safety and Safeguards.

[FR Doc. E8-5649 Filed 3-19-08; 8:45 am]

BILLING CODE 7590-01-P